PRESIDIO TRUST

The Presidio of San Francisco, California; Notice of Availability To Review and Announcement of Public Hearings To Comment on the Draft Environmental Impact Statement for the Presidio Trust Implementation Plan

AGENCY: The Presidio Trust.

ACTION: Notice of availability to review and announcement of public hearings to comment on the draft Environmental Impact Statement (EIS) for the Presidio Trust Implementation Plan (PTIP), an update to the July 1994 Final General Management Plan Amendment (GMPA) for the portion of The Presidio of San Francisco (Presidio) under the jurisdiction of the Presidio Trust (Trust). The PTIP EIS supplements the GMPA Environmental Impact Statement adopted by the National Park Service for the Presidio in 1994.

Abstract: Congress created the Trust under the Presidio Trust Act (16 U.S.C. 460bb Appendix, Title I of Pub. L. 104-333, 110 Stat. 4097), as amended (Trust Act), to manage Presidio facilities so as to make them financially self-sufficient by year 2013 and to protect the Presidio's resources by ensuring long-term financial sustainability. The PTIP EIS describes and analyzes a proposed action, the “Draft Plan,” and five alternatives that have been developed to address Trust Act requirements, changed circumstances since the GMPA was completed, and new policies and management approaches of the Trust. The five alternatives to the “Draft Plan,” each described in greater detail below, are: “No Action,” “Resource Consolidation,” “Sustainable Community,” “Cultural Destination” and “Minimum Management.” Each of the six alternatives presented in the EIS achieves the Trust Act's goals to varying degrees and has a different emphasis. Principal differences include the proposed total building square footage, the proposed amount of non-residential and residential uses, the proposed amount of open space and the proposed method of delivery of public programs. The maximum overall square footage of 5,960,000 allowed under the Trust Act would not be exceeded under any alternative.

The “Draft Plan” alternative was developed and refined based on public input received during the scoping period. Under the Draft Plan, the Presidio would become a center for education, communication and exchange. Buildings would be removed to increase open space, and no net loss of housing units would be achieved, by emphasizing the rehabilitation and reuse of existing buildings.

Under the “No Action,” or GMPA 2000 alternative, the Trust would implement the GMPA assuming current (year 2000) conditions. Buildings would be removed to increase open space and enhance natural resources, and available housing would decrease substantially. Tenants with a mission related to environmental, social or cultural concerns would offer public programs related to their business mission.

Under the “Resource Consolidation” alternative, the Presidio would become an enhanced open space haven in the center of urban surroundings by maximizing open space in the south through the removal of historic and non-historic structures.

Under the “Sustainable Community” alternative, the Presidio would become a sustainable live/work community in a park setting with a small decrease in housing units, would retain its present dispersed pattern of development, and would emphasize building reuse and rehabilitation.

Under the “Cultural Destination” alternative, the Presidio would become a national and international destination park by providing robust public programming delivered through the Trust. A substantial level of building demolition in the south would be replaced in the north to provide an increase in and improved mix of housing and to cluster housing near work and transit.

Under the “Minimum Management” alternative, there would be no significant physical change beyond that already underway, and the Presidio would be minimally managed to meet minimum legal requirements.

Major impact topics addressed in the EIS include historic resources, cultural landscape, archaeology, biological resources, water resources, visual resources, air quality, noise, land use, socioeconomic issues, visitor experience, recreation, public safety, transportation, water supply, utilities, Trust operations, and cumulative impacts.

Materials Available to the Public: The EIS is being sent to agencies, organizations and individuals who have expressed an interest in such information. Copies of the EIS are available by calling 415/561-5414 or by writing the Presidio Trust, P.O. Box 29052, San Francisco, CA 94129-0052. The EIS may also be reviewed in the Trust's library at 34 Graham Street, San Francisco, CA, and is available electronically on the Trust's website (www.presidiotrust.gov). A CD-ROM version may be obtained by calling or writing to the Trust.

Public Meetings: Information on the EIS will be provided and oral comment will be received at the following public meetings:

• August 28, 2001—7:30 p.m. Golden Gate National Recreation Area Citizens' Advisory Commission Meeting, Building 201, Upper Fort Mason, San Francisco, CA.

• September 11, 2001—6 p.m. to 9 p.m. Presidio Trust Public Hearing, 135 Fisher Loop (Golden Gate Club), The Presidio of San Francisco, CA.

• September 17, 2001—1 p.m. to 4 p.m. Presidio Trust Board of Directors meeting, 50 Moraga Avenue (Officers' Club), The Presidio of San Francisco, CA.

Comments: The public review period for the EIS ends on September 25, 2001. Written comments should be sent to: PTIP, c/o John Pelka, NEPA Compliance Manager, the Presidio Trust, 34 Graham Street, P.O. Box 29052, San Francisco, CA 94129-0052. Fax: 415/561-2716; e-mail: ptip@presidiotrust.gov.

FOR FURTHER INFORMATION CONTACT: John Pelka, NEPA Compliance Manager, the Presidio Trust, 34 Graham Street, P.O. Box 29052, San Francisco, CA 94129-0052. Telephone: 415/561-5414.

Dated: July 20, 2001.
Karen A. Cook,
General Counsel.

[FR Doc. 01-18633 Filed 7-25-01; 8:45 am]

BILLING CODE 4310-4R-P